DEPARTMENT OF ENERGY

Federal Energy Regulatory Commission

[Docket No. CP09-24-000]

Columbia Gulf Transmission Company; Notice of Request Under Blanket Authorization

November 24, 2008.

Take notice that on November 21, 2008, Columbia Gulf Transmission Company (Columbia Gulf), 5151 San Felipe, Suite 2500, Houston, Texas 77056, filed a prior notice request pursuant to sections 157.205 and 157.216 of the Commission's regulations under the Natural Gas Act (NGA) for authorization to abandon by sale, pursuant to Columbia Gulf's blanket certificate issued in Docket No. CP83-496-000, certain offshore natural gas facilities to Petroleum Fuels Offshore, LLC (Petroleum Fuels). Columbia Gulf also requests permission and approval to abandon the service provided through the subject facilities, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Columbia Gulf proposes to abandon by sale to Petroleum Fuels certain offshore facilities known as the West Cameron 426 System, as well as rights-of-way and appurtenances (Facilities). Columbia Gulf states that the Facilities consist of approximately 16.3 miles of 6-inch pipeline and appurtenances; and Measuring Station Number 683 and appurtenances. Columbia Gulf states that the only services currently being provided through the Facilities and the service for which Columbia Gulf seeks abandonment approval are currently provided to Texon L.P. and Louis Dreyfus Energy Services, LP. Columbia Gulf asserts that it does not propose abandonment of service to either customer and Petroleum Fuels has agreed to assume any obligation that Columbia Gulf may have to provide service to customers receiving service through the Facilities. Columbia Gulf states that retaining the Facilities is inconsistent with its primary business of transporting natural gas onshore; the Facilities are no longer an integral part of its onshore transmission system; the abandonment will reduce its current operation and maintenance expense, as well as eliminate future capital expenditures for repair or replacement of the Facilities; and the needs of its current and future customers can better be serviced through a divesture of these offshore facilities. Columbia Gulf asserts that the Facilities will be sold for a negotiated amount of $3 million.

Any questions regarding the application should be directed to Fredric J. George, Lead Counsel, Columbia Gulf Transmission Company, PO Box 1273, Charleston, West Virginia 25325-1273, at (304) 357-2359.

Any person may, within 60 days after the issuance of the instant notice by the Commission, file pursuant to Rule 214 of the Commission's Procedural Rules (18 CFR 385.214) a motion to intervene or notice of intervention. Any person filing to intervene or the Commission's staff may, pursuant to section 157.205 of the Commission's regulations under the NGA (18 CFR 157.205) file a protest to the request. If no protest is filed within the time allowed therefor, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a) (1) (iii) and the instructions on the Commission's Web site (http://www.ferc.gov) under the “e-Filing” link.

Kimberly D. Bose,
Secretary.

[FR Doc. E8-28489 Filed 12-1-08; 8:45 am]

BILLING CODE 6717-01-P